ENVIRONMENTAL PROTECTION AGENCY

40 CFR Parts 61 and 63

[FRL-7126-2]

Approval of the Clean Air Act, Section 112(l), Delegation of Authority to the Idaho Department of Environmental Quality

AGENCY: Environmental Protection Agency (EPA).

ACTION: Proposed rule.

SUMMARY: The Environmental Protection Agency, Region 10 (EPA) proposes to approve the Idaho Department of Environmental Quality's (IDEQ) request for program approval and delegation of authority to implement and enforce specific National Emission Standards for Hazardous Air Pollutants (NESHAPs) as they apply to major sources in Idaho required to obtain an operating permit under Title V of the federal Clean Air Act (CAA or Act). Pursuant to the authority of the section 112(l) of the Act, this proposal is based on EPA's finding that Idaho State Law, regulations, and resources meet the requirements for program approval and delegation of authority specified in regulations pertaining to the criteria for straight delegations common to all approval options, and in applicable EPA guidance.

If approved, this delegation will acknowledge IDEQ's ability to implement a NESHAP program and will transfer primary implementation and enforcement responsibility for certain NESHAPs from EPA to IDEQ for major sources. Although EPA would look to IDEQ as the lead for implementing delegated NESHAPs at major sources in Idaho, EPA would retain authority under 112(l)(7) to enforce any applicable emission standard or requirement for major sources. EPA would also retain authority to implement and enforce these standards for non-major sources. If approved, IDEQ may choose to request delegation of new and updated standards, or request broader applicability of their delegation to include non-Title V sources (major sources), by-way-of a streamlined process.

If approved, sources subject to delegated NESHAPs will send required notifications and reports to IDEQ for their action, and send a copy to EPA. Sources will continue to send notifications, reports, and requests required by authorities that are not delegated to IDEQ, to EPA, with a copy to IDEQ.

Concurrent with this proposed rule, EPA is publishing a direct final approval of Idaho's NESHAP delegation in the Federal Register. This is being published without prior proposal because the Agency views this delegation as a noncontroversial action and anticipates no adverse comments. A detailed rationale for the approval as well as tables listing the specific NESHAPs delegated are set forth in the direct final rule. If no adverse comments are received in response to this action, no further activity is contemplated. If EPA receives adverse comments on the direct final rule, it will be withdrawn and all public comments received will be addressed in a subsequent final rule based on this proposed rule. The EPA will not institute a second comment period. Any parties interested in commenting on this action should do so at this time.

DATES: Written comments must be received in writing by February 22, 2002.

ADDRESSES: Written comments should be addressed to Tracy Oliver, Office of Air Quality, at the EPA Regional Office listed below.

Copies of the state submittal are available at the following address for inspection during normal business hours. The interested persons wanting to examine these documents should make an appointment at least 24 hours before the visiting day.

Environmental Protection Agency, Region 10, Office of Air Quality, 1200 6th Avenue, Seattle, WA 98101

FOR FURTHER INFORMATION CONTACT: Tracy Oliver, Office of Air Quality (OAQ-107), EPA, 1200 6th Avenue, Seattle, WA 98101, (206) 553-1172.

SUPPLEMENTARY INFORMATION: For additional information, see the Direct Final rule which is located in the Rules Section of this Federal Register.

Dated: December 13, 2001.
L. John Iari,
Regional Administrator, Region 10.

[FR Doc. 02-1120 Filed 1-22-02; 8:45 am]

BILLING CODE 6560-50-P